DEPARTMENT OF TRANSPORTATION

Federal Highway Administration

Rescission of the Notice of Intent to Prepare an Environmental Impact Statement for the Route 2/2A/32 Corridor Improvements Project, New London County, Connecticut

AGENCY: Federal Highway Administration (FHWA), DOT.

ACTION: Notice.

SUMMARY: The FHWA, in cooperation with the Connecticut Department of Transportation (CTDOT) is issuing this Notice to advise the public that we are rescinding the June 3, 1996, Notice of Intent (NOI) to prepare an Environmental Impact Statement (EIS) for the Route 2/2A/32 Project in New London County, Connecticut. We are rescinding the NOI because a substantial amount of time has passed since its publication and there is a need to re-evaluate traffic growth and congestion in the region.

FOR FURTHER INFORMATION CONTACT: Amy D. Jackson-Grove, Division Administrator, FHWA, Connecticut Division, 450 Main Street, Suite 612, CT 06103; Telephone: (860) 659-6703.

SUPPLEMENTARY INFORMATION: The FHWA, as the lead Federal Agency, in cooperation with the Connecticut Department of Transportation (CTDOT), as the joint lead agency and local project sponsor, published an NOI in the Federal Register on June 3, 1996, at 61 FR 27945, to prepare an EIS on a proposal for transportation improvements within the Connecticut Route 2/2a/32 (CT 2/2A/32) corridor in the towns of Norwich, Preston, Ledyard, North Stonington, Stonington, Montville, New London, Connecticut.

The purpose of the proposed project was to identify transportation improvements to relieve existing and predicted traffic congestion and improve safety on the Route 2 and 2A corridors, along with associated state routes that intersect with Route 2. The study area extended from Westerly, Rhode Island, northwest to Norwich, CT, and south to New London, CT. The Draft EIS was completed and considered a range of alternatives that included: (1) No Action; (2) commuter rail service along the New England Central Rail line combined with transit service (light rail or monorail) between Norwich, CT and Westerly, RI; (3) bus service between Norwich and Westerly along (in part) a dedicated busway; (4) a bypass of Route 2A; (5) widening Route 2 and upgrading Routes 32 and 164; (6) and a bypass of Route 2 in North Stonington. Each alternative was evaluated for impacts to cultural and natural resources, socioeconomic concerns, visual and scenic resources, hazardous materials, existing land use, and local/regional transportation needs.

The Final EIS (FEIS) identified a Preferred Alternative, which was a refinement of DEIS Alternative E (listed as #5 above). This included adding capacity to the Route 2A Bridge by adding a second, parallel, 2-lane bridge crossing the Thames River; a bypass of Route 2A; widening Route 2 in Preston; and upgrading Route 2 in North Stonington. A Record of Decision (ROD) was not finalized and a ROD was not published in the Federal Register.

The decision to rescind the NOI is based on the age of the studies conducted in support of the Environmental Impact Statement (EIS) and the need to re-assess transportation demand within the corridor. Following completion of a new corridor study, FHWA and CTDOT will initiate new NEPA studies, as appropriate, to assess the potential environmental impacts of future actions that involve the study area. Any future project proposed within this corridor will comply with environmental review requirements of the National Environmental Policy Act ((NEPA) (42 U.S.C. 4321 et seq.)), FHWA environmental regulations (23 CFR part 771), and related authorities prior to issuance of a ROD or other NEPA decision, as appropriate. Comments and questions concerning this action should be directed to FHWA at the address provided above.

(Catalog of Federal Domestic Assistance Program Number 20.205, Highway Planning and Construction. The regulations implementing Executive Order 12372 regarding intergovernmental consultation on Federal programs and activities apply to this program.)

Authority: 42 U.S.C. 4321 et seq.; 23 CFR part 771.

Amy D. Jackson-Grove,
Division Administrator, Federal Highway Administration.

[FR Doc. 2022-21750 Filed 10-5-22; 8:45 am]

BILLING CODE 4910-22-P